NATIONAL ARCHIVES AND RECORDS ADMINISTRATION

[NARA-2022-062]

Freedom of Information Act (FOIA) Advisory Committee Meetings

AGENCY: Office of Government Information Services (OGIS), National Archives and Records Administration (NARA).

ACTION: Notice of Federal advisory committee meetings.

SUMMARY: We are announcing upcoming Freedom of Information Act (FOIA) Advisory Committee meetings in accordance with the Federal Advisory Committee Act and the second United States Open Government National Action Plan.

DATES: The meetings will be on Thursday, September 8, 2022, from 10 a.m. to 12 p.m. EDT, and Wednesday, September 14, 2022, from 10 a.m. to 12 p.m. EDT. You must register by:

• 11:59 p.m. EDT September 6, 2022, to attend the September 8, 2022, meeting

• 11:59 p.m. EDT September 12, 2022, to attend the September 14, 2022, meeting

Location: These meetings will be virtual meetings. We will send access instructions for each meeting to those who register according to the instructions below.

FOR FURTHER INFORMATION CONTACT: Kirsten Mitchell, Designated Federal Officer for this committee, by email at foia-advisory-committee@nara.gov, or by telephone at 202.741.5770.

SUPPLEMENTARY INFORMATION: Agendas and meeting materials: We will post all meeting materials at https://www.archives.gov/ogis/foia-advisory-committee/2022-2024-term. These meetings will be the first of the 2022-2024 committee term. The purpose of the September 8, 2022, meeting will be to introduce the members and the work of the Committee. The purpose of the September 14, 2022, meeting will be to establish subcommittees and, for each subcommittee, select co-chairs (one government co-chair and one non-government co-chair).

Procedures: These virtual meetings are open to the public in accordance with the Federal Advisory Committee Act (5 U.S.C. app. 2). If you wish to offer oral public comments during the public comments periods of the meetings, you must register in advance through this Eventbrite link https://foiaac-mtg-sept-8-2022.eventbrite.com for the September 8, 2022 meeting, and through this Eventbrite link https://foiaac-mtg-sept-14-2022.eventbrite.com for the September 14, 2022 meeting. You must provide an email address so that we can provide you with information to access the meeting online. Public comments will be limited to three minutes per individual. To request additional accommodations (e.g., a transcript or closed captioning), email foia-advisory-committee@nara.gov or call 202.741.5770. Members of the media who wish to register, those who are unable to register online, and those who require special accommodations, should contact Kirsten Mitchell (contact information listed above).

Tasha Ford,
Committee Management Officer.

[FR Doc. 2022-18035 Filed 8-19-22; 8:45 am]

BILLING CODE 7515-01-P